LEGAL SERVICES CORPORATION

Notice of Intent To Award—Grant Awards for the Delivery of Civil Legal Services to Eligible Low-Income Clients Beginning January 1, 2024

AGENCY: Legal Services Corporation.

ACTION: Announcement of the Legal Services Corporation's intent to make FY2024 grant awards.

SUMMARY: The Legal Services Corporation (LSC) hereby announces its intention to award grants to provide effective and efficient delivery of high-quality civil legal services to eligible low-income clients, starting January 1, 2024.

DATES: All comments and recommendations must be received on or before the close of business on December 1, 2023.

ADDRESSES: Basic Field Grant Awards, Legal Services Corporation; 3333 K Street NW, Third Floor, Washington, DC 20007.

FOR FURTHER INFORMATION CONTACT: Christine Williams, Program Manager for Basic Field Competition, Office of Program Performance, at (202) 295-1602 or williamsc@lsc.gov.

SUPPLEMENTARY INFORMATION: Under LSC's Notice of Funds Available published on March 14, 2023, 86 FR 14344, and the Notice of Change in Service Areas on April 14, 2023, 88 FR 24451, and LSC's grant application process beginning on April 14, 2023, LSC intends to award funds to organizations that provide civil legal services in the indicated service areas. Applicants for each service area are listed below. The grant award amounts below are estimates based on the FY2023 grant awards to each service area. The funding estimates may change based on the final FY2024 appropriation. In addition, Agricultural Worker service area population estimates are subject to change based on Department of Labor review and comments LSC receives during the 30-day comment period.

LSC will post all updates and changes to this notice at https://www.lsc.gov/grants/basic-field-grant/basic-field-awards. Interested parties are asked to visit https://www.lsc.gov/grants/basic-field-grant regularly for updates on the LSC grants process.

Name of applicant organization | State | Service area | Estimated annualized 2024 funding
Legal Services Alabama, Inc | AL | AL-4 | $8,573,697
Alaska Legal Services Corporation | AK | AK-1 | 1,199,104
Alaska Legal Services Corporation | AK | NAK-1 | 815,380
Legal Aid of Arkansas, Inc | AR | AR-6 | 2,132,844
Center for Arkansas Legal Services | AR | AR-7 | 3,195,926
American Samoa Legal Aid | AS | AS-1 | 387,448
Community Legal Services, Inc | AZ | MAZ | 501,028
Community Legal Services, Inc | AZ | AZ-3 | 7,513,849
Southern Arizona Legal Aid, Inc | AZ | AZ-5 | 3,014,504
Southern Arizona Legal Aid, Inc | AZ | NAZ-6 | 961,025
DNA-Peoples Legal Services, Inc | AZ | AZ-2 | 644,904
DNA-Peoples Legal Services, Inc | AZ | NAZ-5 | 3,934,252
California Indian Legal Services, Inc | CA | CA-1 | 43,760
California Indian Legal Services, Inc | CA | NCA-1 | 1,332,026
Greater Bakersfield Legal Assistance, Inc | CA | CA-2 | 1,622,974
Central California Legal Services | CA | CA-26 | 4,050,745
Legal Aid Foundation of Los Angeles | CA | CA-29 | 7,978,571
Neighborhood Legal Services of Los Angeles County | CA | CA-30 | 5,402,852
Inland Counties Legal Services, Inc | CA | CA-12 | 6,198,340
Legal Services of Northern California, Inc | CA | CA-27 | 5,241,413
Legal Aid Society of San Diego, Inc | CA | CA-14 | 3,722,237
California Rural Legal Assistance, Inc | CA | MCA | 4,695,557
California Rural Legal Assistance, Inc | CA | CA-31 | 6,310,053
Bay Area Legal Aid | CA | CA-28 | 5,534,244
Community Legal Aid SoCal | CA | CA-19 | 4,654,803
Colorado Legal Services | CO | MCO | 329,999
Colorado Legal Services | CO | CO-6 | 6,088,851
Colorado Legal Services | CO | NCO-1 | 144,793
Statewide Legal Services of Connecticut, Inc | CT | CT-1 | 4,145,987
Pine Tree Legal Assistance, Inc | CT | NCT-1 | 23,604
Neighborhood Legal Services Program of the District of Columbia | DC | DC-1 | 1,102,756
Legal Services Corporation of Delaware, Inc | DE | DE-1 | 1,261,169
Community Legal Services of Mid-Florida, Inc | FL | FL-15 | 6,704,396
Florida Rural Legal Services, Inc | FL | MFL | 1,071,020
Florida Rural Legal Services, Inc | FL | FL-17 | 5,664,175
Legal Services of Greater Miami, Inc | FL | FL-5 | 4,994,036
Legal Services of North Florida, Inc | FL | FL-13 | 2,126,279
Bay Area Legal Services, Inc | FL | FL-16 | 5,204,754
Three Rivers Legal Services, Inc | FL | FL-14 | 3,175,785
Coast to Coast Legal Aid of South Florida, Inc | FL | FL-18 | 3,198,576
Atlanta Legal Aid Society, Inc | GA | GA-1 | 4,913,392
Georgia Legal Services Program | GA | MGA | 732,369
Georgia Legal Services Program | GA | GA-2 | 11,089,071
Micronesian Legal Services Corporation | GU | GU-1 | 436,644
Legal Aid Society of Hawaii | HI | HI-1 | 1,804,983
Legal Aid Society of Hawaii | HI | NHI-1 | 345,365
Iowa Legal Aid | IA | MIA | 318,696
Iowa Legal Aid | IA | IA-3 | 3,842,326
Idaho Legal Aid Services, Inc | ID | MID | 456,991
Idaho Legal Aid Services, Inc | ID | ID-1 | 1,930,193
Idaho Legal Aid Services, Inc | ID | NID-1 | 97,951
Legal Aid Chicago | IL | MIL | 296,778
Legal Aid Chicago | IL | IL-6 | 7,874,809
Land of Lincoln Legal Aid, Inc | IL | IL-3 | 3,721,169
Prairie State Legal Services, Inc | IL | IL-7 | 5,410,052
Indiana Legal Services, Inc | IN | MIN | 210,227
Indiana Legal Services, Inc | IN | IN-5 | 9,239,665
Kansas Legal Services, Inc | KS | KS-1 | 3,936,597
Legal Aid of the Bluegrass | KY | KY-10 | 2,156,656
Legal Aid Society | KY | KY-2 | 1,870,535
Appalachian Research and Defense Fund of Kentucky | KY | KY-5 | 2,339,297
Kentucky Legal Aid | KY | KY-9 | 1,879,266
Acadiana Legal Service Corporation | LA | LA-15 | 5,263,277
Southeast Louisiana Legal Services Corporation | LA | LA-13 | 4,831,319
Volunteer Lawyers Project of the Boston Bar Association | MA | MA-11 | 2,958,768
South Coastal Counties Legal Services | MA | MA-12 | 1,382,776
Northeast Legal Aid, Inc | MA | MA-4 | 1,124,634
Community Legal Aid, Inc | MA | MA-10 | 2,064,596
Maryland Legal Aid | MD | MDE | 34,647
Maryland Legal Aid | MD | MMD | 156,338
Maryland Legal Aid | MD | MD-1 | 6,326,581
Pine Tree Legal Assistance, Inc | ME | MMX-1 | 404,683
Pine Tree Legal Assistance, Inc | ME | ME-1 | 1,612,793
Pine Tree Legal Assistance, Inc | ME | NME-1 | 97,177
Michigan Advocacy Program | MI | MMI | 738,224
Michigan Advocacy Program | MI | MI-12 | 2,409,811
Legal Services of Eastern Michigan | MI | MI-14 | 2,285,530
Lakeshore Legal Aid | MI | MI-13 | 5,887,227
Legal Services of Northern Michigan, Inc | MI | MI-9 | 1,092,659
Legal Aid of Western Michigan | MI | MI-15 | 3,044,262
Michigan Indian Legal Services, Inc | MI | NMI-1 | 248,19
Legal Aid Service of Northeastern Minnesota | MN | MN-1 | 582,526
Central Minnesota Legal Services, Inc | MN | MN-6 | 2,254,194
Legal Services of Northwest Minnesota Corporation | MN | MN-4 | 492,712
Southern Minnesota Regional Legal Services, Inc | MN | MMN | 567,250
Southern Minnesota Regional Legal Services, Inc | MN | MN-5 | 2,128,740
Anishinabe Legal Services, Inc | MN | NMN-1 | 360,310
Legal Aid of Western Missouri | MO | MMO | 219,112
Legal Aid of Western Missouri | MO | MO-3 | 3,013,660
Legal Services of Eastern Missouri, Inc | MO | MO-4 | 2,677,599
Mid-Missouri Legal Services Corporation | MO | MO-5 | 752,002
Legal Services of Southern Missouri | MO | MO-7 | 2,718,700
Micronesian Legal Services Corporation | MP | MP-1 | 2,189,788
North Mississippi Rural Legal Services, Inc | MS | MS-9 | 2,536,094
Mississippi Center for Legal Services | MS | MS-10 | 3,950,471
Mississippi Center for Legal Services | MS | NMS-1 | 125,327
Montana Legal Services Association | MT | MMT | 184,823
Montana Legal Services Association | MT | MT-1 | 1,421,534
Montana Legal Services Association | MT | NMT-1 | 240,065
Legal Aid of North Carolina, Inc | NC | MNC | 841,538
Legal Aid of North Carolina, Inc | NC | NC-5 | 16,042,018
Legal Aid of North Carolina, Inc | NC | NNC-1 | 329,047
Southern Minnesota Regional Legal Services, Inc | ND | MND | 148,536
Legal Services of North Dakota | ND | ND-3 | 802,879
Legal Services of North Dakota | ND | NND-3 | 406,131
Legal Aid of Nebraska | NE | MNE | 254,263
Legal Aid of Nebraska | NE | NE-4 | 2,008,376
Legal Aid of Nebraska | NE | NNE-1 | 49,837
603 Legal Aid | NH | NH-1 | 1,127,845
Legal Services of Northwest Jersey, Inc | NJ | NJ-15 | 756,320
South Jersey Legal Services, Inc | NJ | MNJ | 185,406
South Jersey Legal Services, Inc | NJ | NJ-20 | 3,012,913
Northeast New Jersey Legal Services Corporation | NJ | NJ-18 | 2,501,531
Essex-Newark Legal Services Project, Inc | NJ | NJ-8 | 1,296,736
Central Jersey Legal Services, Inc | NJ | NJ-17 | 1,970,255
DNA-Peoples Legal Services, Inc | NM | NM-1 | 300,688
DNA-Peoples Legal Services, Inc | NM | NNM-2 | 34,254
New Mexico Legal Aid | NM | MNM | 221,415
New Mexico Legal Aid | NM | NM-5 | 4,024,004
New Mexico Legal Aid | NM | NNM-4 | 700,532
Nevada Legal Services, Inc | NV | NV-1 | 4,623,270
Nevada Legal Services, Inc | NV | NNV-1 | 200,483
Legal Aid Society of Northeastern New York, Inc | NY | NY-21 | 2,091,335
Neighborhood Legal Services, Inc | NY | NY-24 | 1,905,125
Nassau/Suffolk Law Services Committee, Inc | NY | NY-7 | 1,990,870
Legal Services NYC | NY | NY-9 | 15,767,245
Legal Assistance of Western New York, Inc | NY | NY-23 | 2,587,596
Legal Aid Society of Mid-New York, Inc | NY | MNY | 402,123
Legal Aid Society of Mid-New York, Inc | NY | NY-22 | 2,615,416
Legal Services of the Hudson Valley | NY | NY-20 | 2,689,504
Community Legal Aid Services, Inc | OH | OH-20 | 2,954,190
Legal Aid Society of Greater Cincinnati | OH | OH-18 | 2,477,113
The Legal Aid Society of Cleveland | OH | OH-21 | 3,384,321
Ohio State Legal Services | OH | OH-24 | 4,874,803
Legal Aid of Western Ohio, Inc | OH | MOH | 258,340
Legal Aid of Western Ohio, Inc | OH | OH-23 | 4,137,546
Oklahoma Indian Legal Services, Inc | OK | NOK-1 | 1,234,480
Legal Aid Services of Oklahoma, Inc | OK | MOK | 354,994
Legal Aid Services of Oklahoma, Inc | OK | OK-3 | 6,746,569
Legal Aid Services of Oregon | OR | MOR | 662,291
Legal Aid Services of Oregon | OR | OR-6 | 5,070,374
Legal Aid Services of Oregon | OR | NOR-1 | 278,321
Philadelphia Legal Assistance Center | PA | MPA | 499,354
Philadelphia Legal Assistance Center | PA | PA-1 | 4,252,530
MidPenn Legal Services, Inc | PA | PA-25 | 3,713,694
Neighborhood Legal Services Association | PA | PA-8 | 2,025,522
North Penn Legal Services, Inc | PA | PA-24 | 2,961,822
Summit Legal Aid | PA | PA-27 | 1,646,773
Northwestern Legal Services | PA | PA-26 | 1,062,629
Legal Aid of Southeastern Pennsylvania | PA | PA-23 | 1,978,497
Puerto Rico Legal Services, Inc | PR | MPR | 74,578
Puerto Rico Legal Services, Inc | PR | PR-1 | 16,313,964
Community Law Office, Inc | PR | PR-2 | 381,614
Rhode Island Legal Services, Inc | RI | RI-1 | 1,333,661
South Carolina Legal Services, Inc | SC | MSC | 328,404
South Carolina Legal Services, Inc | SC | SC-8 | 8,109,537
East River Legal Services | SD | SD-2 | 585,331
Dakota Plains Legal Services, Inc | SD | SD-4 | 656,404
Dakota Plains Legal Services, Inc | SD | NSD-1 | 1,407,733
Legal Aid of East Tennessee | TN | TN-9 | 3,631,438
Memphis Area Legal Services, Inc | TN | TN-4 | 1,980,595
Legal Aid Society of Middle Tennessee and the Cumberlands | TN | TN-10 | 4,407,477
West Tennessee Legal Services, Inc | TN | TN-7 | 940,648
Legal Aid of NorthWest Texas | TX | TX-14 | 12,928,681
Lone Star Legal Aid | TX | TX-13 | 16,926,880
Texas RioGrande Legal Aid, Inc | TX | MSX-2 | 3,491,115
Texas RioGrande Legal Aid, Inc | TX | TX-15 | 15,951,018
Texas RioGrande Legal Aid, Inc | TX | NTX-1 | 47,187
Utah Legal Services, Inc | UT | MUT | 130,779
Utah Legal Services, Inc | UT | UT-1 | 3,295,336
Utah Legal Services, Inc | UT | NUT-1 | 124,037
Legal Services of Northern Virginia, Inc | VA | VA-20 | 2,402,141
Southwest Virginia Legal Aid Society, Inc | VA | VA-15 | 1,183,690
Legal Aid Society of Eastern Virginia | VA | VA-16 | 2,004,764
Central Virginia Legal Aid Society, Inc | VA | MVA | 375,743
Central Virginia Legal Aid Society, Inc | VA | VA-18 | 1,746,313
Virginia Legal Aid Society, Inc | VA | VA-17 | 1,145,353
Blue Ridge Legal Services, Inc | VA | VA-19 | 1,163,760
Legal Services of the Virgin Islands, Inc | VI | VI-1 | 287,739
Legal Services Vermont | VT | VT-1 | 672,330
Northwest Justice Project | WA | MWA | 1,230,446
Northwest Justice Project | WA | WA-1 | 7,664,201
Northwest Justice Project | WA | NWA-1 | 429,491
Legal Action of Wisconsin, Inc | WI | MWI | 570,722
Legal Action of Wisconsin, Inc | WI | WI-5 | 5,272,036
Judicare Legal Aid | WI | WI-2 | 1,361,792
Judicare Legal Aid | WI | NWI-1 | 233,875
Legal Aid of West Virginia, Inc | WV | WV-5 | 3,395,116
Legal Aid of Wyoming, Inc | WY | WY-4 | 693,615
Legal Aid of Wyoming, Inc | WY | NWY-1 | 260,534

These grants will be awarded under the authority conferred on LSC by section 1006(a)(1) of the Legal Services Corporation Act, 42 U.S.C. 2996e(a)(l). Grant awards are made to ensure civil legal services are provided in every service area, although no listed organization is guaranteed a grant award. Grants will become effective, and grant funds will be distributed, on or about January 1, 2024.

LSC issues this notice pursuant to 42 U.S.C. 2996f(f). Comments and recommendations concerning potential grantees are invited and should be delivered to LSC within 30 days from the date of publication of this notice.

(Authority: 42 U.S.C. 2996f(f); 42 U.S.C. 2996g(e).)

October 27, 2023.
Stefanie Davis,
Deputy General Counsel and Ethics Officer, Legal Services Corporation.

[FR Doc. 2023-24129 Filed 10-31-23; 8:45 am]

BILLING CODE 7050-01-P